DEPARTMENT OF TRANSPORTATION

Bureau of Transportation Statistics

[Docket No. DOT-OST-2023-0021]

Notice of Request for Clearance of a New Information Collection: Ocean Shipping Reform Act of 2022 (OSRA 22)

AGENCY: Bureau of Transportation Statistics (BTS), Office of the Assistant Secretary for Research and Technology (OST-R), Department of Transportation (DOT).

ACTION: Notice and request for comments.

SUMMARY: In accordance with the requirements of section 3506(c)(2)(A) of the Paperwork Reduction Act of 1995, BTS announces the intension to request the Office of Management and Budget (OMB) for its review and renewal of the Ocean Shipping Reform Act (OSRA) 2022 Pilot Data Collection. Section 16 of OSRA 2022 mandates that the Bureau of Transportation Statistics (BTS) collect chassis and container street dwell time, as well as chassis out of service data monthly from each port, marine terminal operator, and chassis owner or provider with a fleet of over 50 chassis that supply chassis for a fee. The information collected from this data collection will be used to provide, at the least, national level street dwell and out of service statistics. The monthly statistics will be published by BTS on the BTS OSRA web page at: www.bts.gov/osra.

DATES: Comments must be submitted on or before April 10, 2023.

ADDRESSES: You may submit comments identified by DOT Docket ID Number DOT-OST-2022-0095 to the U.S. Department of Transportation (DOT), Dockets Management System (DMS). You may submit your comments by mail or in person to the Docket Clerk, Docket No., U.S. Department of Transportation, 1200 New Jersey Ave. SE, West Building, Room W12-140, Washington, DC 20590. Comments should identify the docket number as indicated above. Paper comments should be submitted in duplicate. The DMS is open for examination and copying, at the above address, from 9 a.m. to 5 p.m., Monday through Friday, except federal holidays. If you wish to receive confirmation of receipt of your written comments, please include a self-addressed, stamped postcard with the following statement: “Comments on Docket DOT-OST-2022-0095.” The Docket Clerk will date stamp the postcard prior to returning it to you via the U.S. mail. Please note that due to delays in the delivery of U.S. mail to Federal offices in Washington, DC, we recommend that persons consider an alternative method (the internet, fax, or professional delivery service) to submit comments to the docket and ensure their timely receipt at U.S. DOT. You may fax your comments to the DMS at (202) 493-2251. Comments can also be viewed and/or submitted via the Federal Rulemaking Portal: http://www.regulations.gov.

Please note that anyone is able to electronically search all comments received into our docket management system by the name of the individual submitting the comment (or signing the comment if submitted on behalf of an association, business, labor union, etc.). You may review DOT's complete Privacy Act Statement in the Federal Register published on April 11, 2000 (Volume 65, Number 70; pages 19475-19570) or you may review the Privacy Act Statement at http://www.gpoaccess.gov/fr/.

FOR FURTHER INFORMATION CONTACT: April Gadsby, (470) 718-5798, Mathematical Statistician, BTS, OST-R, Department of Transportation, 1200 New Jersey Ave. SE, Washington, DC 20590. Office hours are from 8:00 a.m. to 5:00 p.m., E.T., Monday through Friday, except Federal holidays.

SUPPLEMENTARY INFORMATION:

Title: Ocean Shipping Reform Act of 2022 (OSRA 22).

Background: In response to supply chain challenges, Congress passed the Ocean Shipping Reform Act of 2022 (OSRA 22). Section 16 of the OSRA 22 mandates BTS to produce statistics on “the total street dwell time from all causes of marine containers and chassis and the average out of service percentage of chassis.” OSRA 22 grants BTS authority to collect data from “each port, marine terminal operator, and chassis owner or provider with a fleet of over 50 chassis that supply chassis for a fee” as deemed necessary to produce these statistics.

Per the law, BTS must produce the first monthly report no later than February 10, 2023 (240 days from the request). For this, OMB issued an emergency clearance OMB 2138-0050 expiring February 10, 2023. This clearance will serve to continue the national data collection until the sunset of the program as detailed by congress by December 2026.

This new data collection will require that BTS establish a sample frame and research available data sources and data items from in scope ports, terminals, and intermodal equipment providers, ocean carriers and non-vessel operating common carriers. The results from the initial data collection that will be published by February 10, 2023, under the emergency clearance will provide the foundation upon which the national program can be built.

The data collection will be administered to “each port, marine terminal operator, and chassis owner or provider with a fleet of over 50 chassis that supply chassis for a fee” (OSRA 22) as deemed necessary to produce these statistics.

The data collection will include approximately 190-265 data providers representing the approximate set of 90 chassis owners, motor carriers, and/or intermodal equipment providers (IEPs), as well as all ports, including inland ports and their approximately 75-150 intermodal terminal facilities, inland dry ports, intermodal terminal facilities operators (e.g., ICTF = Intermodal Container Transfer Facility). The data collection will request respondents to provide information such as the estimated inventory of intermodal chassis and/or marine containers under their control measured by TEU in the U.S., how dwell time, out of service rates, and/or unavailable chassis are defined, tracked, and at what frequency they can be reported for the equipment under their control. The data collection will yield statistics on the total intermodal marine container and chassis street dwell time and the chassis out of service rate to satisfy the OSRA 22 mandate.

Respondents: The target population for the data collection will be approximately 190-265 respondents representing the approximate set of 90 chassis owners, motor carriers, and/or intermodal equipment providers (IEPs), as well as all ports, including inland ports and their approximately 75-150 intermodal terminal facilities, inland dry ports, and ICTFs.

Estimated Average Burden per Response: The burden per respondent is estimated to be an average of 2 hours. This average is based on the resulting test data sets received from data respondents.

Estimated Total Annual Burden: The total monthly burden (once the program is fully developed and all participants have been asked to submit data) is estimated to be 808 hours (that is 2 hours per data provider for 404 data providers equals 808 hours).

Frequency: Monthly until the data collection sunset, December 2026.

Public Comments Invited: Interested parties are invited to send comments regarding any aspect of this information collection, including, but not limited to: (1) the necessity and utility of the information collection for the proper performance of the functions of the DOT; (2) the accuracy of the estimated burden; (3) ways to enhance the quality, utility, clarity and content of the collected information; and (4) ways to minimize the collection burden without reducing the quality of the collected information. Comments submitted in response to this notice will be summarized and/or included in the request for OMB's clearance of this information collection.

Authority: The Transportation Equity Act for the 21st Century, Pub. L. 105-178, section 1207(c), The Safe, Accountable, Flexible Efficient Transportation Equity Act—A Legacy for Users (SAFETEA-LU), Pub. L. 109-59, Moving Ahead for Progress in the 21st Century Act (MAP-21), Pub. L. 112-141, 49 CFR 1.46, and Fixing America's Surface Transportation Act (FAST Act), Pub. L. 114-94, sec. 1112.

Issued in Washington, DC, on the 2nd day of February 2023.
Cha-Chi Fan,
Director, Office of Data Development and Standards, Bureau of Transportation Statistics, Office of the Assistant Secretary for Research and Technology.

[FR Doc. 2023-02583 Filed 2-6-23; 8:45 am]

BILLING CODE 4910-9X-P